CHEMICAL SAFETY AND HAZARD INVESTIGATION BOARD

Sunshine Act Meeting

The CSB will convene a public meeting concerning the fatal explosion that occurred on January 11, 2006, at the Bethune Point Wastewater Plant in Daytona Beach, Florida. The Board will take testimony from the investigation team and also from a panel of outside experts. The meeting will be held from 9:30 a.m. until approximately noon on December 14, 2006, in the Tides A room of the Daytona Beach Resort and Conference Center, 2700 North Atlantic Ave., Daytona Beach, FL 32118.

Two municipal workers died and another was seriously injured while attempting to remove a steel roof over a storage tank containing highly flammable methyl alcohol at the plant, operated by the City of Daytona Beach. The blast was ignited by a cutting torch.

The investigation team, led by Robert Hall, P.E., will present findings related to the safety programs and training at the plant, the use of plastic pipe in flammable liquid systems, and maintenance of specialized equipment used on flammable liquid tanks.

The Board will hear testimony from experts discussing OSHA coverage for State and municipal employees and whether Florida should adopt OSHA coverage to protect public employees from chemical hazards in the workplace. The Board will also welcome any public comments on issues raised during the meeting.

Pre-registration is not required, but to assure adequate seating attendees are encouraged to pre-register by e-mailing their names and affiliations to publicmeeting@csb.gov by December 7, 2006.

The CSB is an independent Federal agency charged with investigating industrial chemical accidents.

The agency's board members are appointed by the president and confirmed by the Senate. CSB investigations look into all aspects of chemical accidents, including physical causes such as equipment failure as well as inadequacies in safety regulations, industry standards, and management systems.

The Board does not issue citations or fines but does make safety recommendations to plants, industry organizations, labor groups, and government agencies. For more information, please contact the Chemical Safety and Hazard Investigation Board at (202)-261-7600, or visit our Web site at: http://www.csb.gov.

Christopher W. Warner,
General Counsel.

[FR Doc. 06-9471 Filed 11-27-06; 1:05 pm]

BILLING CODE 6350-01-M